DEPARTMENT OF COMMERCE

International Trade Administration

[A-533-824]

Polyethylene Terephthalate Film, Sheet, and Strip (PET Film) From India: Final Results of Antidumping Duty Administrative Review; 2022-2023

AGENCY: Enforcement and Compliance, International Trade Administration, Department of Commerce.

SUMMARY: The U.S. Department of Commerce (Commerce) determines that Jindal Poly Films Ltd. (Jindal) made sales of polyethylene terephthalate film, sheet, and strip (PET film) from India in the United States at prices below normal value (NV) during the period of review (POR), July 1, 2022 through June 30, 2023, and that SRF Limited/SRF Limited of India/SRF Limited Packaging Films (SRF) did not make sales of subject merchandise in the United States at prices below NV during the POR.

DATES: Applicable May 16, 2025.

FOR FURTHER INFORMATION CONTACT: Jacob Saude, AD/CVD Operations, Office VII, Enforcement and Compliance, International Trade Administration, U.S. Department of Commerce, 1401 Constitution Avenue NW, Washington, DC 20230; telephone: (202) 482-0981.

SUPPLEMENTARY INFORMATION:

Background

On August 13, 2024, Commerce published in the Federal Register the preliminary results of the 2022-2023 administrative review of the antidumping duty order on PET film from India.¹ On December 6, 2024, Commerce issued a post-preliminary decision memorandum finding that JPFL Films Private Limited (JPFL) is the successor-in-interest to Jindal.² We conducted an on-site verification of Jindal's responses ³ and SRF's responses ⁴ in December 2024.

¹ See Polyethylene Terephthalate Film, Sheet, and Strip From India: Preliminary Results of Antidumping Duty Administrative Review and Rescission of Review, in Part; 2022-2023, 89 FR 65845 (August 13, 2024) (Preliminary Results), and accompanying Preliminary Decision Memorandum.

² See Memorandum, “Post-Preliminary Decision Memorandum for the Antidumping Duty Administrative Review: Polyethylene Terephthalate Film, Sheet, and Strip from India; 2022-2023,” dated December 6, 2024.

³ See Memorandum, “Verification of the Sales Response of Jindal Poly Films Limited in the Antidumping Review of Polyethylene Terephthalate Film, Sheet, and Strip from India,” dated March 21, 2025.

⁴ See Memorandum, “Verification of the Sales Response of SRF Limited in the Antidumping Review of Polyethylene Terephthalate Film, Sheet, and Strip from India,” dated January 30, 2024.

We invited interested parties to submit case and rebuttal briefs.⁵ On March 31, 2025, we received a timely case brief from SRF.⁶ On April 7, 2025, we received a timely case brief from DuPont Teijin Films, Mitsubishi Chemical America, Inc.—Polyester Film Division, and SK Microworks America, Inc. (collectively, petitioners).⁷ Finally, SRF submitted a timely rebuttal brief on April 16, 2025.⁸

⁵ See Memorandum, “Briefing Schedule,” dated March 24, 2025; see also, Memorandum “Revising the Briefing Schedule,” dated March 31, 2025.

⁶ See SRF's Letter, “Re: PET Films from India: Case brief of SRF Limited,” dated March 31, 2025.

⁷ See Petitioner's Letter, “Re: Polyethylene Terephthalate (PET) Film, Sheet, and Strip From India: Case Brief,” dated April 7, 2025.

⁸ See SRF's Letter, “Re: PET Films from India: Rebuttal Case Brief of SRF Limited,” dated April 16, 2025.

On November 5, 2024, we fully extended the deadline of the final results of this administrative review until February 5, 2025.⁹ On December 9, 2024, we tolled the deadlines for issuing the final results in this proceeding by 90 days.¹⁰ The final results are now due on May 12, 2025.

⁹ See Memorandum, “Polyethylene Terephthalate Film, Sheet and Strip from India: Extension of Deadline for Final Results of Antidumping Duty Administrative Review; 2022-2023,” dated November 5, 2024.

¹⁰ See Memorandum, “Tolling of Deadlines for Antidumping and Countervailing Duty Proceedings,” dated December 9, 2024.

Scope of the Order ¹¹

¹¹ See Notice of Amended Final Antidumping Duty Determination of Sales at Less than Fair Value and Antidumping Duty Order: Polyethylene Terephthalate Film, sheet, and Strip from India, 67 FR 44175 (July 1, 2002) (Order).

The products covered by the Order are all gauges of raw, pretreated, or primed PET film, whether extruded or coextruded, from India. A complete description of the scope of the Order is contained in the Issues and Decision Memorandum.¹²

¹² See Memorandum, “Issues and Decision Memorandum for the Final Results of the Antidumping Duty Administrative Review of the Antidumping Duty Order on Polyethylene Terephthalate Film, Sheet, and Strip from India; 2022-2023,” dated concurrently with, and hereby adopted by, this notice (Issues and Decision Memorandum).

Analysis of Comments Received

We addressed all issues raised in the case and rebuttal briefs filed in this administrative review in the Issues and Decision Memorandum. For a list of the issues raised by interested parties, see the appendix to this notice. The Issues and Decision Memorandum is a public document and is on file electronically via Enforcement and Compliance's Antidumping and Countervailing Duty Centralized Electronic Service System (ACCESS). ACCESS is available to registered users at https://access.trade.gov. In addition, a complete version of the Issues and Decision Memorandum can be accessed directly at https://access.trade/gov/public/FRNoticesListLayout.aspx.

Changes Since the Preliminary Results

Based on our review of the record and comments received from interested parties, and for the reasons explained in the Issues and Decision Memorandum, we made certain changes to the margin calculations for SRF for the final results of review. Further, due to Jindal's lack of preparation at verification and failure to provide requested information in a timely manner at verification, we have applied facts available to Jindal, in accordance with section 776(a) of the Tariff Act of 1930, as amended (the Act), because Jindal's responses could not be verified, Jindal withheld information requested by Commerce, failed to provide information within the deadlines for submission of the information, and significantly impeded this proceeding. As such, Commerce determines that an adverse inference is warranted in selecting from among the facts otherwise available pursuant to section 776(b) of the Act because Jindal failed to cooperate to the best of its ability. For a discussion of these changes, see the Issues and Decision Memorandum.

Final Results of Review

As a result of this review, Commerce determines the following estimated weighted-average dumping margins for the period July 1, 2022, through June 30, 2023:

Producer/exporter | Weighted-average dumping margin (percent)
Jindal Poly Films Ltd./Jindal Poly Films/Jindal Poly Films Limited India/JPFL Films Private Limited | 24.14
SRF Ltd./SRF Limited of India/SRF Limited Packaging Films ¹³ | 0.00

Disclosure

¹³ In the last administrative review, Commerce found, based on information provided by SRF, that SRF is most appropriately reviewed as SRF Limited/SRF Limited of India/SRF Limited Packaging Films. See Polyethylene Terephthalate Film, Sheet, and Strip from India: Final Results of Antidumping Duty Administrative Review; Second Correction 2021-2022, 89 FR 7684, 7685 (February 5, 2024).

Commerce intends to disclose to the parties in a proceeding the calculations performed in connection with the final results within five days of any public announcement or, if there is no public announcement, within five days of the date of publication of the notice of final results in the Federal Register, in accordance with 19 CFR 351.224(b).

Assessment Rates

Commerce will determine, and U.S. Customs and Border Protection (CBP) shall assess, antidumping duties on all appropriate entries in this review, in accordance with section 751(a)(2)(C) the Act and 19 CFR 351.212(b)(1). Where an importer-specific assessment rate is either zero or de minimis, we will instruct CBP to liquidate the appropriate entries without regard to antidumping duties. Accordingly, because the weighted-average dumping margin for SRF is zero percent, we will instruct CBP to liquidate SRF's entries without regard to antidumping duties in accordance with 19 CFR 351.106(c)(2).

Pursuant to Commerce's practice, we will instruct CBP to liquidate entries from Jindal at 24.14 percent. For entries of subject merchandise during the POR produced by Jindal for which it did not know that the merchandise it sold to an intermediary (e.g., reseller, trading company, or exporter) was destined for the United States, we will instruct CBP to liquidate such entries at the all-others rate (i.e., 5.71) ¹⁴ if there is no rate for the intermediate company(ies) involved in the transaction.¹⁵

¹⁴ See Order (showing the dumping margin computed for all other producers/exporters as 24.14 percent); and Notice of Final Determination of Sales at Less Than Fair Value: Polyethylene Terephthalate Film, Sheet, and Strip from India, 67 FR 34899, 34901 (showing an adjustment of 18.43 percent for export subsidies found in the companion countervailing duty investigation). The cash deposit rate for all other exporters is the net of these figures (i.e., 5.71 percent). See Notice of Amended Final Antidumping Duty Determination of Sales at Less Than Fair Value and Antidumping Duty Order: Polyethylene Terephthalate Film, Sheet, and Strip from India, 67 FR 44175 (July 1, 2002).

¹⁵ For a full discussion of this practice, see Antidumping and Countervailing Duty Proceedings: Assessment of Antidumping Duties, 68 FR 23954 (May 6, 2003).

Commerce intends to issue appropriate assessment instructions directly to CBP no earlier than 35 days after the date of publication of the final results of this administrative review in the Federal Register. If a timely summons is filed at the U.S. Court of International Trade, the assessment instructions will direct CBP not to liquidate relevant entries until the time for parties to file a request for a statutory injunction has expired (i.e., within 90 days of publication).

Cash Deposit Requirements

The following cash deposit requirements will be effective for all shipments of the subject merchandise entered, or withdrawn from warehouse, for consumption on or after the publication date of the final results of this administrative review, as provided by section 751(a)(2)(C) of the Act: (1) the cash deposit rate for the companies listed above will be equal to the weighted-average dumping margin established in the final results of this review (except, if the rate is zero or de minimis, then no cash deposit will be required); (2) for previously reviewed or investigated companies not covered in this review, the cash deposit rate will continue to be the company-specific rate published for the most recently completed segment of this proceeding in which the company participated; (3) if the exporter is not a firm covered in this or any previous review or in the original less-than-fair-value (LTFV) investigation but the producer is, the cash deposit rate will be the rate established in the most recently completed segment of this proceeding for the producer of the subject merchandise; and (5) if neither the exporter nor the producer is a firm covered in this or any previous review or the LTFV investigation, the cash deposit rate will continue to be the all-others rate of 5.71 percent, which is the all-others rate established by Commerce in the LTFV investigation.¹⁶ These cash deposit requirements, when imposed, shall remain in effect until further notice.

¹⁶ See Order.

Notification to Importers

This notice also serves as a final reminder to importers of their responsibility under 19 CFR 351.402(f)(2) to file a certificate regarding the reimbursement of antidumping duties prior to liquidation of the relevant entries during this review period. Failure to comply with this requirement could result in Commerce's presumption that reimbursement of antidumping duties occurred and the subsequent assessment of double antidumping duties.

Administrative Protective Order (APO)

This notice also serves as a reminder to parties subject to an APO of their responsibility concerning the return or destruction of proprietary information disclosed under APO in accordance with 19 CFR 351.305(a)(3), which continues to govern business proprietary information in this segment of the proceeding. Timely written notification of the return/destruction of APO materials or conversion to judicial protective order is hereby requested. Failure to comply with the regulations and the terms of an APO is a sanctionable violation.

Notification to Interested Parties

These results are being issued and published in accordance with sections 751(a)(1) and 777(i)(1) of the Act and 19 CFR 351.213(h) and 351.221(b)(5).

Dated: May 12, 2025.
Christopher Abbott,
Deputy Assistant Secretary for Policy and Negotiations, performing the non-exclusive functions and duties of the Assistant Secretary for Enforcement and Compliance.

Appendix

List of Topics Discussed in the Issues and Decision Memorandum

I. Summary

II. Background

III. Scope of the Order

IV. Use of Facts Otherwise Available and Adverse Inferences

V. Changes Since the Preliminary Results

VI. Discussion of the Issues

Comment 1: Whether Commerce Should Apply Total Adverse Facts Available (AFA) to Jindal

Comment 2: Whether Commerce Should Continue to Exclude Certain U.S. Sales from SRF's Calculations

Comment 3: Whether Commerce Revise SRF's Freight Revenue Cap Calculations

Comment 4: Whether Commerce Should Revise SRF's Home Market Program to Account for Returns

VII. Recommendation

[FR Doc. 2025-08813 Filed 5-15-25; 8:45 am]

BILLING CODE 3510-DS-P